DEPARTMENT OF DEFENSE

48 CFR Part 207

[DFARS Case 2000-D030]

Defense Federal Acquisition Regulation Supplement; Review of Acquisition Plans for Conventional Ammunition

AGENCY: Department of Defense (DoD).

ACTION: Final rule.

SUMMARY: DoD has issued a final rule amending the Defense Federal Acquisition Regulation Supplement (DFARS) to add policy pertaining to acquisition plans for conventional ammunition. The rule requires military departments and defense agencies to submit acquisition plans to the DoD single manager for conventional ammunition (SCMA) for review.

EFFECTIVE DATE: September 11, 2001.

FOR FURTHER INFORMATION CONTACT: Ms. Susan Schneider, Defense Acquisition Regulations Council, OUSD (AT&L) DP (DAR), IMD 3C132, 3062 Defense Pentagon, Washington, DC 20301-3062. Telephone (703) 602-0326; facsimile (703) 602-0350. Please cite DFARS Case 2000-D030.

SUPPLEMENTARY INFORMATION:

A. Background

Section 806 of the National Defense Authorization Act for Fiscal Year 1999 (Public Law 105-261) provides authority for the DoD SCMA to restrict the procurement of conventional ammunition to sources within the national technology and industrial base, when the SCMA determines such limitation is necessary to maintain a facility, producer, manufacturer, or supplier for an essential item of ammunition. This final DFARS rule facilitates the implementation of Section 806 by requiring military departments and defense agencies to submit acquisition plans for conventional ammunition to the SCMA for review.

This rule was not subject to Office of Management and Budget review under Executive Order 12866, dated September 30, 1993.

B. Regulatory Flexibility Act

This final rule does not constitute a significant revision within the meaning of FAR 1.501 and Public law 98-577 and publication for public comment is not required. However, DoD will consider comments from small entities concerning the affected DFARS subpart in accordance with 5 U.S.C. 610. Such comments should cite DFARS Case 2000-D030.

C. Paperwork Reduction Act

The Paperwork Reduction Act does not apply because the rule does not impose any information collection requirements that require the approval of the Office of Management and Budget under 44 U.S.C. 3501, et seq.

List of Subjects in 48 CFR Part 207

Government procurement.

Michele P. Peterson,
Executive Editor, Defense Acquisition Regulations Council.

Therefore, 48 CFR Part 207 is amended as follows:

1. The authority citation for 48 CFR Part 207 continues to read as follows:

Authority: 41 U.S.C. 421 and 48 CFR Chapter 1.

PART 207—ACQUISITION PLANNING

2. Section 207.103 is amended as follows:

a. By redesignating paragraphs (c), (d), (f), and (h) as paragraphs (d), (e), (g), and (i), respectively;

b. In newly designated paragraph (d)(i), by revising the introductory text;

c. In newly designated paragraph (d)(ii), in the second sentence, by removing “which” and adding in its place “that”;

d. In newly designated paragraph (e), in the first sentence, by removing the parenthetical “(c)” and adding in its place “(d)”; and

e. By adding a new paragraph (h). The revised and added text reads as follows:

207.103 Agency-head responsibilities.

(d)(i) Prepare written acquisition plans for—

* * * * *

(h) For procurement of conventional ammunition, as defined in DoDD 5160.65, Single Manager for Conventional Ammunition (SCMA)—

(i) The department or agency—

(A) Must submit the acquisition plan to the SCMA at the following address: Deputy for Ammunition, Office of the Assistant Secretary of the Army (Acquisition, Logistics and Technology), ATTN: SAAL-ZCA, 5001 Eisenhower Avenue, Alexandria, VA 22333-0001. Telephone: Commercial (703) 617-8001; DSN 767-8001;

(B) Also must submit an acquisition plan to the SCMA for a new procurement covered by a previously approved acquisition plan, if the SCMA did not review the previously approved acquisition plan; and

(C) Must not proceed with the procurement until the SCMA provides written concurrence with the acquisition plan.

(ii) The SCMA—

(A) Will review the acquisition plan to determine if it is consistent with retaining national technology and industrial base capabilities in accordance with 10 U.S.C. 2304(c)(3) and Section 806 of Public law 105-261; and

(B) Will notify the department or agency of concurrence or non-concurrence. In the case of a non-concurrence, the SCMA, with assistance from the Army Office of the Executive Director for Conventional Ammunition, will attempt to resolve the matter with the department or agency. If no agreement is reached, the Assistant Secretary of the Army (Acquisition, Logistics and Technology) will make the final decision on the appropriate acquisition approach.

* * * * *

[FR Doc. 01-22422 Filed 9-10-01; 8:45 am]

BILLING CODE 5000-04-M